DEPARTMENT OF COMMERCE

National Oceanic and Atmospheric Administration

15 CFR Part 922

Installing and Maintaining Commercial Submarine Cables in National Marine Sanctuaries

AGENCY: Marine Sanctuaries Division (MSD), National Ocean Service (NOS), National Oceanic and Atmospheric Administration (NOAA), Department of Commerce (DOC).

ACTION: Reopening of comment period for Advance Notice of Proposed Rulemaking.

SUMMARY: Notice is hereby given that NOAA is reopening the public comment on an advance notice of proposed rulemaking published August 23, 2000. The ANPR was published by NOAA to evaluate whether changes to existing National Marine Sanctuary (NMS) regulations or some form of policy guidance is necessary to clarify NOAA's decision-making process regarding the installation and maintenance of commercial submarine cables within NMSs. If changes or additional guidance are appropriate, the ANPR also requested comments on what the changes or guidance should contain. In addition, the ANPR requested comments on proposed principles on the installation of commercial submarine cables within the marine and coastal environment as a whole. This notice reopens the period for public comment for 15 days.

DATE: Comments on this document must be received by December 11, 2000.

ADDRESSES: Comments should be sent to Debra Malek, Conservation Policy and Planning Branch, National Marine Sanctuary Program, 1305 East-West Highway, SSMC4, 11th Floor, Silver Spring, Maryland, 20910. Attention: Submarine Cable FR Comments. Comments may also be submitted by email to: submarine.cables@noaa.gov

All comments will be available to the public for review at the NOAA Central Library, 2nd floor, Silver Spring Metro Center Building 3 (SSMC3), 1315 East-West Highway, Silver Spring, Maryland 20910.

FOR FURTHER INFORMATION CONTACT: Debra Malek at (301) 713-3125 extension 162.

SUPPLEMENTARY INFORMATION: On August 23, 2000, NOAA published an advance notice of proposed rulemaking (65 FR 51264). The ANPR was published by NOAA to evaluate whether changes to existing NMS regulations or some form of policy guidance is necessary to clarify NOAA's decision-making process regarding the installation and maintenance of commercial submarine cables within NMSs. If changes or additional guidance are appropriate, the ANPR also requested comments on what the changes or guidance should contain. In addition, the ANPR requested comments on proposed principles on the installation of commercial submarine cables within the marine and coastal environment. The ANPR provided a sixty day period for the submission of public comments, with the period closing on October 23, 2000. NOAA received numerous comments in response to this ANPR. It also received a number of requests for additional time to provide information on this subject. In response to these requests, NOAA is providing additional time for comments to be submitted. This notice reopens the period for public comment for fifteen days, until December 11, 2000.

Dated: November 15, 2000.
Ted I. Lillestolen,
Deputy Assistant Administrator for Oceans and Coastal Zone Management.

[FR Doc. 00-30031 Filed 11-22-00; 8:45 am]

BILLING CODE 3510-08-M